DEPARTMENT OF STATE

[Public Notice 6173]

Bureau of Educational and Cultural Affairs (ECA) Request for Grant Proposals: National Security Language Initiative—Youth Program (NSLI-Y)

Announcement Type: New Cooperative Agreement.

Funding Opportunity Number: ECA/PE/C/PY-08-39.

Catalog of Federal Domestic Assistance Number: 00.000.

Key Dates:

Application Deadline: June 5, 2008.

Executive Summary: The Office of Citizen Exchange Programs of the Bureau of Educational and Cultural Affairs announces an open competition for projects in support of the National Security Language Initiative (NSLI) to provide short, medium, and/or long-term foreign language instruction and cultural immersion programs overseas for American high school students and those who have just graduated. Public and private non-profit organizations, or consortia of such organizations meeting the provisions described in Internal Revenue Code section 26 U.S.C. 501(c)(3), may submit proposals to implement these programs in countries where the following target languages are widely spoken: Arabic, Chinese, Korean, Russian, Turkish, Indic, and Farsi. Programs will be designed for U.S. citizens aged 15 to 18 at the start of the program who are either currently enrolled in high school or have just graduated. These programs should offer at least 550 U.S. high school students structured classroom instruction and less formal interactive learning opportunities through a comprehensive exchange experience that primarily emphasizes language learning. The program is designed to develop additional language study opportunities for U.S. students. Proposals from applicant organizations should clearly indicate the building of new, additional institutional language-teaching capacity overseas for these programs. ECA plans to award a single grant for the recruitment and administration of all NSLI-Y programs in all world regions.

The Bureau expects that most students will be placed in host families, but will consider alternative housing arrangements, such as dormitories. Alternative arrangements must include adult resident daily supervision and be combined with brief home stays. In either case, the student must be ensured his or her own bed. The exchange programs will take place between January 2009 and December 2010, and we anticipate that recruitment and planning will begin during the summer/early fall of 2008. The program builds on two years of short (summer-only) intensive language programs in Arabic and Chinese conducted in 2006 and 2007. Information on these programs is available at the NSLI Youth Web site: http://www.exchanges.state.gov/education/citizens/students/programs/nsli.htm.

I. Funding Opportunity Description

Authority

Overall grant making authority for this program is contained in the Mutual Educational and Cultural Exchange Act of 1961, as amended, Public Law 87-256, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Purpose

The Bureau of Educational and Cultural Affairs (ECA) is supporting the participation of American high school students in intensive, substantive foreign language study to further strengthen national security and prosperity in the 21st century as part of the National Security Language Initiative (NSLI), launched by President Bush in January 2006.

Foreign language skills are essential to engaging foreign governments and peoples, especially in critical world regions, to promote understanding and convey respect for other cultures. Americans will use these skills to support the nation's foreign affairs priorities, its economic competitiveness, and its educational institutions as they prepare future citizens for full engagement in the global environment. The broad NSLI initiative focuses resources on improving language learning for U.S. citizens across the educational spectrum and emphasizes the need to achieve mastery of critical languages. NSLI-Y programs support the participation of American high school students and those who have just graduated in intensive, substantive educational exchange programs that will promote language learning, as well as engage the successor generation in a dialogue for greater understanding.

The goals of the NSLI-Y program are:

• To improve the ability of Americans to engage with the people of Arabic, Turkish, Indic, Farsi, Russian, Korean, and Chinese-speaking countries through shared language;

• To develop a cadre of Americans with advanced linguistic skills and related cultural understanding who are able to advance international dialogue, promote the security of the United States, compete effectively in the global economy; and

• To provide a tangible incentive for the learning and use of foreign languages by developing additional overseas language study opportunities for U.S. high school students; and

• To spark a lifetime interest in foreign cultures among American youth.

In order to achieve these goals, the Bureau supports programs for American high school students to gain and improve language proficiency in Arabic, Chinese, Korean, Russian, Indic, Farsi, and Turkish. ECA plans to award a single cooperative agreement for the recruitment and administration of all NSLI-Y programs in all world regions. Organizations with expertise in one or more of the indicated languages are encouraged to seek partners in the other languages to submit a single proposal. Consortia must designate a lead institution to receive the grant award. Applicant organizations may submit grant proposals requesting funds not exceeding $7,400,000 to implement these exchanges between January 2009 and December 2010. The applicant must also propose to organize a sub-grant competition so that individual institutions or consortia such as schools, school districts, non-profits, etc. may compete to organize their own independent language study abroad programs.

Through these institutes, U.S. high school students and those who have just graduated from high school will participate in short, medium, or academic year programs abroad beginning January 2009. Since there is an emphasis on substantial progress in foreign language advancement, applicant organizations should concentrate most efforts on language instruction and explain clearly the utility and advantages of proposing each type of program. The programs will provide intensive language instruction in a classroom setting, and should also provide language-learning opportunities through immersion in the cultural, social, and educational life of the partner country. Language study must be the primary focus of the program, and must offer a range of proficiencies: beginning, intermediate and advanced. The exchange program should also expand the participants' knowledge of the host country's history, culture, and political system as these support language learning.

Indicators of a successful program:

• Participants will demonstrate a measurable improvement in language skills verified through testing that includes a baseline (entry) assessment, a mid-term (in semester and year-long programs especially) assessment, and a final assessment. Assessment must measure both colloquial and formal language acquisition.

• Participants will demonstrate—for example, through surveys, essays, focus groups, or presentations—a deeper understanding of the host country's culture, society, and institutions.

• Alumni will continue their foreign language study and/or participate in other exchanges to countries where the target languages are spoken.

• Students and families from the host country who engage with the U.S. participants will demonstrate an interest in learning more about the United States.

Capacity of Administering Organization

U.S. applicant organizations or consortia must have the necessary capacity in the partner country or countries to implement the program through either their own offices or partner institutions. Organizations may demonstrate their organization's direct expertise, or they may partner with other organizations to best respond to the requirements outlined in the RFGP. Organizations that opt to work in sub-grant arrangements should clearly outline all duties and responsibilities of the partner organizations, ideally in the form of sub-grant agreements and accompanying budgets. The lead institution may not host more than one-third of total exchange participants.

Organizations or consortia applying for this cooperative agreement must demonstrate their (or their partners') capacity for conducting projects of this nature, focusing on five areas of competency: (1) Provision of program support to American high school students; (2) quality of language instruction programs for the target audience; and (3) age-appropriate cultural programming; and (4) alumni tracking and follow-upon language acquisition; and (5) experience working with individuals from the proposed host countries. Applicant organizations must clearly address the building of new and increased institutional language study capacity overseas, especially for high school students.

Programs Models and Information

Proposals must include each of the three following program models: Short language institutes, semester, and academic year study programs.

Intensive language institutes: Each six- to eight-week program will focus on language study and cultural immersion, and will include four to six hours per day of formal language instruction, plus excursions, briefings and discussions on key cultural issues. Institutes may be offered in June/July 2009 and 2010; organizations may propose other timeframes with a justification. Language institutes should also include follow-on programs in a range of successive proficiencies for returning participants or those who have language experience.

Semester programs: High school juniors and seniors and those who have just graduated. Semester (three to five months) programs will focus on language study and cultural immersion and will include significant formal language instruction, plus excursions, briefings, and discussions on key cultural issues. Programs may take place in spring and fall semesters 2009, and spring and fall semesters 2010. Applicants are encouraged to explore options for providing academic coursework outside of the target language so that high school students are not disadvantaged when they return to their U.S. school.

Academic year programs: These programs will be limited to juniors and seniors (and recent high school graduates who begin the program activities before their 19th birthday). Academic year programs will focus on language study and cultural immersion and will include significant daily formal language instruction, plus excursions, briefings, and discussions on key cultural issues. Applicants are encouraged to explore options for providing academic coursework outside of the target language so that high school students are not disadvantaged when they return to their U.S. school.

For All Program Models

While teaching conversational vocabulary will be necessary to help students cope with their immersion setting, classes will also provide formal instruction in grammar, vocabulary, and pronunciation, and will cover speaking, listening, reading, and writing.

All programs should also include a secondary cultural immersion component designed to reinforce language learning with planned excursions that give the students the opportunity to participate in activities designed to teach them about the society, culture and history of the host country. The program activities will introduce the students to the community as feasible and appropriate and will include educational excursions that serve to enhance the visitors' understanding of contemporary society, culture, media, political institutions, ethnic diversity, history, and environment of the region.

Cooperating organizations should make every effort to identify American students at all levels of language competency—beginning, intermediate, and advanced—for each language, including heritage speakers. To the fullest extent possible, grantees should strive to place students of different levels in each program model (summer, semester and academic year).

Staff should be physically present and available to support the participants throughout the course of all programs.

Country and Language Information

The Bureau reserves the right to make changes in eligible countries for programming based on safety and security concerns.

For Arabic Programs

Applicant organizations should present plans for approximately 75 participants in the language institutes, 30 participants for the semester program, and 15 participants for the academic year program. Arabic language instruction should be available for three levels of students at the beginning, intermediate, and advanced level. Approximately 1/3 of participants should be at the intermediate and advanced level; every effort should be made to achieve a balance of programs at the different instruction levels. The program should describe a plan to test all students prior to placement to determine the appropriate level of instruction. The proposed program should make explicit accommodation for learners of varying skill levels.

Classroom instruction should emphasize Modern Standard Arabic with class time devoted also to colloquial Arabic, so that students may interact with host families and peers in Arabic.

Applicant organizations should plan to send students to a country in North Africa, the Middle East, or the Gulf region, with the exception of Algeria, Iraq, Israel, Libya, Lebanon, Saudi Arabia, and West Bank/Gaza. Any proposal to place students in Syria is limited to short-term study in Damascus only, with a maximum of nine participants. Applicant organizations should include venues in Egypt, Morocco, and Jordan.

For Chinese Programs

Applicant organizations should present plans for approximately 75 participants in the language institutes, 30 participants for the semester program, and 15 participants for the academic year program. Chinese language instruction should be available for three levels of students: beginner, intermediate and advanced. Approximately 1/3 of the participants should be at the intermediate and advanced level. The program should describe a plan to test all students prior to placement to determine the appropriate level of instruction. The proposed program should make explicit accommodation for learners of varying skill levels.

Students should study Mandarin in class and through informal study and interaction with their host community. Teaching materials used in the program should be available in both simplified and traditional character versions. The Hanyu pinyin romanization system should be used.

Applicant organizations should plan to send students to the People's Republic of China (mainland China) or Taiwan for study.

For Farsi Programs

Applicant organizations should present plans for approximately 15 participants in an intensive language institute only (NOT for semester or academic year programs). Farsi language instruction should be available for three levels of students: beginning, intermediate, and advanced. Approximately ⅓ of participants should be at the intermediate and advanced level. The program should devise a plan to test all students prior to placement to determine the appropriate level of instruction. The proposed program should make explicit accommodation for learners of varying skill levels.

Formal instruction in written and spoken Farsi must be offered. Students should learn Farsi in class and through informal study and interaction with their host community.

For Farsi, applicants may not plan to send students to Iran, Afghanistan, or Uzbekistan. Organizations may propose sending students to any other country with a significant Farsi-speaking population, subject to approval by ECA and the Mission in that country. Programs in Tajikistan and the United Arab Emirates will be given favorable consideration under the review criterion: institutional capacity.

For Indic Programs

Applicant organizations may submit a proposal for up to ten participants for intensive language institutes only (NOT for semester or academic-year programs). Instruction in Indic languages should include Hindi, and may also include Bengali, Punjabi, and Urdu, subject to Embassy approval. The program should devise a plan to test all students prior to placement to determine the appropriate level of instruction. The proposed program should make explicit accommodation for learners of varying skill levels, including intermediate and advanced if students place at those levels.

Students should learn the target language in class and through informal study and interaction with their host community.

Applicant organizations should plan to send students to New Delhi, India, or to cities close to a U.S. mission, and should consult with that mission.

For Korean Programs

Applicant organizations should present plans for approximately 50 participants in the language institutes, 10 participants for the semester program, and 10 participants for the academic year program. Korean language instruction should be available for three levels of students: elementary, intermediate, and advanced. Approximately ½ of participants should be at the intermediate and advanced level. The program should devise a plan to test all students prior to placement to determine the appropriate level of instruction. The proposed program should make explicit accommodation for learners of varying skill levels.

Students should learn Korean in class and through informal study and interaction with their host community. The Hangeul alphabet system should be used. Students should also be introduced to NAKL.

Applicant organizations should plan to send students to South Korea.

For Russian Programs

Applicant organizations should present plans for approximately 75 participants in the language institutes, 25 participants for the semester program, and ten participants for the academic year program. Russian language instruction should be available for three levels of students: beginning, intermediate, and advanced. Approximately ½ of participants should be at the intermediate and advanced level. The program should devise a plan to test all students prior to placement to determine the appropriate level of instruction. The proposed program should make explicit accommodation for learners of varying skill levels.

Students should learn Russian in class and through informal study and interaction with their host community.

Applicant organizations should plan to send students to Russia. Applicants are encouraged to propose programs outside of Moscow and St. Petersburg, in order to maximize opportunities for language learning.

For Turkish Programs

Applicant organizations should present plans for approximately 50 participants in the intensive language institute, 22 participants for the semester program, and 5 participants for the academic year program. Turkish language instruction should be available for three levels of students: beginning, intermediate, and advanced. Approximately ⅓ of participants should be at the intermediate and advanced level. The program should devise a plan to test all students prior to placement to determine the appropriate level of instruction. The proposed program should make explicit accommodation for learners of varying skill levels.

Students should learn Turkish in class and through informal study and interaction with their host community.

Applicant organizations should plan to send students to Turkey. If applicants propose programs in Ankara and Istanbul, they are encouraged to provide excursions to other parts of the country. Other cities close to a U.S. consulate may be considered following consultations with the mission.

The participant numbers outlined above are approximate and intended as suggestions only. The Bureau reserves the right to amend or modify the list of eligible countries and the target numbers of participants should conditions change in the host country.

Statement of Work

Participant Recruitment and Selection

The cooperating agency will recruit, screen, and select US high school and just-graduated students ages 15-18 at the beginning of the program. Selected participants should show strong evidence of ability to succeed academically in an intensive, demanding language study program and to adjust socially in an overseas environment. Participants should represent the diversity of the United States. Diversity addresses differences of religion, ethnicity, socio-economic status, and physical abilities. Selected students should also represent diversity of geography, type of school, and a balance between genders. Selected students should demonstrate a strong intention of continuing their language study beyond the scholarship period and applying their critical language skills later in their academic careers.

The Bureau should be consulted regarding the selection of candidates, and will approve the selection of finalists and alternates for the program.

Information about the program, along with all accompanying application materials, should be posted online. Applicant organizations should propose under Tab E a comprehensive outreach plan to publicize and recruit for the program at high schools and elsewhere nationwide.

The Bureau requests that interested students apply to the program through an online application system. An alternate paper-based application should also be provided for those candidates unable to apply online. These paper-based applications, however, must be entered into the online system by cooperating organization program staff. All application materials should be available in a sortable, searchable, electronically accessible database format that can be easily shared with the Bureau upon request.

Orientations/Pre-Departure Preparations

The administering organization will facilitate medical screening and clearance to ensure that students are healthy and have immunizations necessary for safe travel to the host country. It will also develop a parental/participant release form to be signed before departure.

The administering organization will organize a substantive, in-person, pre-departure orientation for all students. Working in consultation with ECA, the organization should include in the orientation a security briefing on the host country. The cooperating organization may also need to work in consultation with ECA and the U.S. Embassy in the host country to arrange an in-country security briefing to be held by the Embassy's Regional Security Officer. The orientations will take place in Washington, DC. The applicant organization will provide a compelling justification if they propose to host these orientations in any other location. Comprehensive information packets will be provided to all orientation participants. A sample of the contents of these packets will be provided under Tab E.

At the end of the exchange, the cooperating agency will organize closing workshops for the students prior to departure from their host countries, which will focus on summarizing the experience, completing an evaluation, language testing, developing plans for activities at home, and preparing for re-entry.

Project Activities for All Program Models

Describe in sufficient detail the major components of the program, including project planning; publicity and recruitment, including responding to and management of a significant volume of queries and applications; the host venues; selection; orientations (U.S. and overseas); assessment and testing; language instruction; educational enrichment activities; cultural activities; participant monitoring, particularly host families and living situations; reporting to ECA of issues; and logistics.

The administering organization will provide instruction in a target language for U.S high school students who may be beginning and/or intermediate/advanced students of the language. While teaching conversational language skills will be necessary to help students cope with their immersion setting, classes should also provide formal instruction in grammar, vocabulary, and pronunciation, and will cover reading, speaking, listening, and writing. Instruction should provide a solid foundation for future study of the language.

During the exchange, the students will also have the opportunity to participate in activities designed to teach them about community life, citizen participation, and the culture and history of the host country. Activities will engage host country peers as much as possible. The program activities will introduce the students to the community—its leaders and institutions, the ways citizens participate in local government and the resolution of societal problems—and will include educational excursions that serve to enhance the participants' understanding of contemporary life through study of the community's history, culture, media, political institutions, ethnic diversity, and environment. Embassy and Consular personnel may pose limits or guidelines on all aspects of the community and outreach portions of the exchange.

Students will have opportunities for volunteerism and community service, and these activities should involve interacting with host country peers. Cooperating agencies will encourage students to share their culture, lifestyle, and traditions with local citizens throughout their stay and especially during International Education Week (November 17-21). Enhancement activities will increase and enhance students' appreciation of the importance of tolerance and respect for the views, beliefs, and practices of people from other cultures. Enhancement activities may include, but are not limited to, integrated projects with host country nationals, including foreign alumni of ECA programs. The applicant will work with ECA to develop strategies to identify and work with these alumni.

Living Arrangements

Applicants should describe a plan to provide students with qualified, screened, and well-motivated host families. With justification, proposals may include reasonable living allowances for the host families to cover costs associated with hosting a student. Living allowances will be reviewed and approved on a case-by-case basis. Applicants must propose a standardized screening process in the selection of host families, and for consulting about their proposed placement locations (neighborhoods, regions) with the Public Affairs Sections (PAS) of the U.S. Embassy and with the Bureau of Education and Cultural Affairs. Since the purpose of the programs is to provide an immersion experience for the language learners and increase their language skills, ECA strongly recommends home stays with local families for as much time during the program as possible, balancing this with time spent in a dormitory setting where the participants may be more inclined to speak English.

While full-time host family placements are preferred, students may be placed in a dormitory setting that includes daily adult resident supervision to ensure the security of participants and that affords the opportunity for visits with designated and screened host families who can offer brief home stays throughout the course of the exchange. In either case, the student must be ensured his or her own bed.

Programs should provide three meals a day. While participants may receive meal stipends for some meals, program organizers should ensure that a majority of meals are provided through homestays, pre-paid board plans, group meals, etc., to ensure that students are eating properly.

With justification, applicants may provide students with monthly stipends adequate to cover necessary expenses. Proposals may include a reasonable living allowance to host families. The amounts of any stipends or allowances should be justified based on the host country's local economy.

Applicants must provide students with a local representative on whom the student may call for resolution of any cultural, academic, or adjustment issue. The person must be an English speaker that is either American or a host country national with significant experience living in the United States. Students should also be provided with an English speaking emergency contact available at any time, and with the means to communicate with this person. In some cases—and with proper justification—cell phones may be issued to the students for health and safety reasons.

Each program should have an adult accompany the students on the international flight, and an adult, English speaking staff member must be available in country to support the participants during the course of the program.

Assessment and Testing

Standardized pre- and post-institute testing should be done to determine participants' language proficiency and progress.

Pre- and post-testing should measure the student's advancement in language learning. Applicants should describe plans and instruments to measure students' increased language proficiency due to participation in this program. The data need to be analyzed and reported by the cooperating agency to ECA for the program, disaggregated by institute.

Alumni Tracking and Follow-On Activities

Alumni activities and tracking are important parts of ECA exchange programs. The applicant must provide a plan of follow-up with alumni by e-mail, through a website or weblog, newsletter, listservs, and/or in person, and should assist alumni in maintaining connections with organizations and individuals in the host country. The cooperating organization will be expected to develop a plan to track the activities of alumni and their continued interest in studying the language.

The cooperating organization will be strongly encouraged to coordinate with ECA's Global Connections and Exchange Program (GCE) to facilitate school connectivity between the schools where the U.S. participants study, and schools in the host countries. This type of follow-on activity will increase the competitiveness of proposal submissions under the criterion: Follow-on activities. Information about the countries and specific programs can be found at: http://exchanges.state.gov/education/citizens/students/programs/connections/.

As an element of follow-on activities, cooperating organizations will be expected to provide opportunities for maintaining participants' involvement and interest in intercultural communication. The cooperating agency is strongly urged to outline how it will creatively organize and financially support alumni activities at a minimal cost to ECA.

Publicity

The proposal must describe how these programs will be publicized to media outlets, including print, online, and broadcast to reach the widest possible audience of qualified students. The cooperating agency will also work closely with ECA to publicize the successes of the students involved in these institutes, as well as the National Security Language Initiative as a whole. Under Tab E, the applicant organization should provide information on successful media outreach campaigns it has conducted in the past.

Institutional Grant Program

The applicant must also propose to organize a sub-grant competition so that individual institutions or consortia such as colleges, schools, school districts, non-profit organizations, etc. may compete to organize their own independent short-term (six to eight week) language study abroad programs for 10-20 high school students in a critical language listed above. Recipients of small grants would be expected to conduct their own recruitment, selection, orientation, language study, and participant monitoring and evaluations. Individual student participants of these programs should still use the EGOALS evaluation system, should complete a common online application, and should be included in NSLI-Y alumni tracking and other alumni programming. The purpose of the small grants is to encourage the development of new or beginning exchange programs and build institutional language instruction capacity and cultural understanding in institutions in the United States and overseas. All elements of this competition will be developed in collaboration with ECA/PE/C/Y and with Embassies overseas. No less than $1,500,000 should be set aside for this purpose. ECA envisions 10-12 grants to be awarded and at least 150 students to travel through these small grant programs.

Cooperative Agreement

In a cooperative agreement, ECA/PE/C/PY is substantially involved in program activities above and beyond routine grant monitoring. ECA/PE/C/PY activities and responsibilities for this program are as follows:

(1) Review all print and online materials (including, but not limited to, those for recruitment and orientation) regarding the institutes before publication and dissemination. Review does not include instructional materials, though the Bureau does reserve the right to request these materials as needed.

(2) Work with the cooperating agency on a recruitment strategy.

(3) Work with the cooperating agency to publicize the program, and the National Security Language Initiative (NSLI) as a whole, through various media outlets.

(4) Review and approve application forms.

(5) Participate in selection committees.

(6) Confirm final selection of principal and alternate candidates.

(7) Work with cooperating agency to implement participant orientations.

(8) Review project activity schedules for all programs.

(9) Be kept informed by the cooperating agency of its progress at each stage of the project's implementation through timely updates. In addition to these updates, ECA should be informed immediately of any serious participant issues, including, but not limited to health, safety, and security issues.

(10) Provide Bureau-approved evaluation surveys for completion by participants after completion of program.

(11) Provide substantive input on alumni activities and follow-up events.

(12) Work with cooperating agency on the recruitment, selection of grantees, and the implementation of institutional grants.

Note: All materials, publicity, and correspondence related to the program must acknowledge this as a program of the Bureau of Educational and Cultural Affairs of the U.S. Department of State. The Bureau will retain copyright use of and distribute materials related to this program as it sees fit.

Funding

Grant funding will support costs including for recruitment and selection of participants, testing, orientation, travel, tuition and maintenance costs, educational enhancements, cultural and social activities, alumni activities, institutional grants, and administrative costs. The cooperating agency should budget for travel to Washington, DC to review program parameters with ECA.

State Department Evaluation

Independently of the cooperating organization, the Bureau's Office of Policy and Evaluation will also conduct evaluations of the NSLI-Y program through E-GOALS, its online system for surveying program participants and collecting data about program performance.

E-GOALS system evaluations assist ECA and its program grantees in meeting the requirements of the Government Performance Results Act (GPRA) of 1993. This Act requires federal agencies to measure the results of their programs in meeting pre-determined performance goals and objectives.

All NSLI-Y program participants will take three online surveys:

• Standardized pre-program surveys, at the beginning of the program;

• Standardized post-program surveys, at the end of the program; and

• Standardized follow-up surveys, approximately six months to a year after the conclusion of the program.

Further details on specific program responsibilities can be found in the Project Objectives, Goals, and Implementation document. Interested organizations should read the entire Federal Register announcement prior to preparing proposals. Please refer to the Proposal Submission Instructions for further information.

II. Award Information

Type of Award: Cooperative agreement.

Fiscal Year Funds: 2008.

Approximate Total Funding: $7.4 million.

Approximate Number of Awards: 1.

Anticipated Award Date: August 30, 2008.

Anticipated Project Completion Date: December 30, 2010.

Additional Information: Pending successful implementation of this program and the availability of funds in subsequent fiscal years, ECA reserves the right to renew the cooperative agreement for two additional fiscal years.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Bureau grant guidelines require that organizations with less than four years experience in conducting international exchanges be limited to $60,000 in Bureau funding. ECA anticipates awarding a grant (or grants) in an amount over $60,000 to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1 Contact Information To Request an Application Package

Please contact the Youth Programs Division, Office of Citizen Exchanges (ECA/PE/C/PY), room 568, U.S. Department of State, SA-44, 301 4th Street, SW., Washington, DC 20547, Telephone (202) 203-7502, Fax (202) 203-7529, or E-mail NowlinJR@state.gov to request a Solicitation Package. Please refer to the Funding Opportunity Number (ECA/PE/C/PY-08-39) when making your request.

The Solicitation Package contains the Proposal Submission Instruction (PSI) document which consists of required application forms, and standard guidelines for proposal preparation.

Please specify Bureau Program Officer Dan Neher or Catharine Cashner and refer to the Funding Opportunity Number (ECA/PE/C/PY-08-39) located at the top of this announcement on all other inquiries and correspondence.

IV.2. To Download a Solicitation Package Via Internet

The entire Solicitation Package may be downloaded from the Bureau's Web site at http://exchanges.state.gov/education/rfgps/menu.htm or from the grants.gov Web site at http://www.grants.gov. Please read all information before downloading.

IV.3. Content and Form of Submission

Applicants must follow all instructions in the Solicitation Package. The original and eight copies of the application should be sent per the instructions under IV.3f. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory PSI document for additional formatting and technical requirements.

IV.3c. You must have nonprofit status with the IRS at the time of application.

Please note: Effective March 14, 2008, all applicants for ECA federal assistance awards must include with their application, a copy of page 5, Part V-A, “Current Officers, Directors, Trustees, and Key Employees” of their most recent Internal Revenue Service (IRS) Form 990, “Return of Organization Exempt From Income Tax.” If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

While the students will not travel on J-1 visas, which are for foreign exchange visitors to the United States, the Bureau of Educational and Cultural Affairs places critically important emphasis on the security and proper administration of the Exchange Visitor (J visa) Programs and recipients and sponsors responsibilities to all regulations governing the J visa. Therefore, proposals should demonstrate the applicant's plan to meet all similar requirements as those governing the administration of Exchange Visitor Programs for students coming to the U.S. as set forth in 22 CFR part 62, for American participants traveling abroad, including screening and selection of program participants and host families, provision of pre-arrival information and orientation to participants, monitoring of participants, proper maintenance and security of forms, record-keeping, reporting and other requirements.

Please refer to Solicitation Package for further information. A copy of the complete regulations governing the administration of Exchange Visitor (J) programs is available at http://exchanges.state.gov or from: United States Department of State, Office of Exchange Coordination and Designation, ECA/EC/ECD—SA-44, 301 4th Street, SW., Room 734, Washington, DC 20547, Telephone: (202) 203-5029, FAX: (202) 453-8640.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the cooperating organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Cooperating organizations will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. The anticipated per person cost for a six-to-eight-week program is $8,000 to $10,000. For the semester-long program, anticipated cost is $20,000. For the academic year program, cost is estimated at $30,000. There must be a summary budget as well as breakdowns reflecting both administrative and program budgets. Applicants may provide separate sub-budgets for each program component, phase, location, or activity to provide clarification. Applicants should also provide copies of any sub-grant agreements that would be implemented under terms of this award.

IV.3e.2. Allowable costs for the program include the following:

(1) Recruitment/selection;

(2) Preparation/orientation;

(3) Visas and associated costs;

(4) Travel;

(5) Institute costs, including language instruction, program activities, and monitoring;

(6) Room and board, as necessary;

(7) Reasonable living allowance for host families;

(8) Follow-on activities, including costs for school connectivity and alumni tracking;

(9) Evaluation/Administration.

Maximum limits on grant funding are as follows: Conference room rental costs-$250 per day per room; Consultant fees and honoraria-$250/day; Evaluation costs-2% to 5% of the grant.

Please refer to the Solicitation Package for complete budget guidelines and formatting instructions.

IV.3f. Application Deadline and Methods of Submission

Application Deadline Date: June 5, 2008.

Reference Number: ECA/PE/C/PY-08-39.

Methods of Submission: Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory PSI of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight copies of the application should be sent to: U.S. Department of State, SA-44, Bureau of Educational and Cultural Affairs, Ref.: ECA/PE/C/PY-08-39, Program Management, ECA/EX/PM, Room 534, 301 4th Street, SW., Washington, DC 20547.

Applicants submitting hard-copy applications must also submit the “Executive Summary” and “Proposal Narrative” sections of the proposal in text (.txt) or Microsoft Word format on a PC-formatted disk. The Bureau will provide these files electronically to the appropriate Public Affairs Section(s) at the U.S. embassies for their review.

IV.3f.2. Submitting Electronic Applications

Applicants have the option of submitting proposals electronically through Grants.gov (http://www.grants.gov). Complete solicitation packages are available at Grants.gov in the “Find” portion of the system. Please follow the instructions available in the 'Get Started' portion of the site (http://www.grants.gov/GetStarted).

Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your Internet connection. Therefore, we strongly recommend that you not wait until the application deadline to begin the submission process through Grants.gov.

Direct all questions regarding Grants.gov registration and submission to: Grants.gov Customer Support, Contact Center Phone: 800-518-4726, Business Hours: Monday-Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the Grants.gov system, and will be technically ineligible.

Applicants will receive a confirmation e-mail from Grants.gov upon the successful submission of an application. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications

Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission and the purposes outlined in this solicitation. Proposals should demonstrate how students would be recruited, selected, monitored, instructed in the target language, and supported as alumni. The level of creativity, resources, and effectiveness will be primary factors for review. Proposals should be clearly and accurately written, with sufficient relevant detail. Proposed programs should deliver high quality language instruction and strengthen long-term mutual understanding, including maximum sharing of information and establishment of long-term institutional and individual linkages. Proposals should include creative ways to involve students in their host communities.

2. Program planning: Proposals should clearly demonstrate an understanding of the program's objectives and how the organization will achieve them. The Narrative should address all of the items in the Statement of Work and Guidelines described above. A detailed agenda and relevant work plan should demonstrate organizational competency and logistical capacity. Agenda and plan should adhere to the program overview, timetable and guidelines described in this solicitation.

3. Support of Diversity: Proposals should demonstrate substantive support of the Bureau's policy on diversity in all program aspects including all participants (exchange students and hosts), sending and hosting communities, orientation, and program activities. Proposals should articulate a diversity plan, not just a statement of compliance.

4. Follow-on activities: Proposals should provide a plan for continued contact with returnees to ensure that they are tracked over time, utilized and/or organized as alumni, and provided opportunities to reinforce the knowledge and skills they acquired on the exchange and share them with others. Proposals should articulate mechanisms to be used to foster ongoing interaction through mechanisms like ECA's Global Connections program.

5. Institutional Record/Capacity: Applicants must demonstrate a well-established infrastructure in the country or countries with which they plan to send high school students. Proposals for a consortium must have clearly defined roles for each partner organization and a plan for monitoring the work of each partner. Proposed personnel and institutional resources should be adequate and appropriate to achieve the program's goals. Proposals should demonstrate the capacity of in-country organizations to fully support and ensure the safety and well-being of participants throughout the duration of their program. Submissions should also demonstrate an understanding of the complexities of the exchange environment.

6. Program Evaluation: Successful applicants will demonstrate clear program goals and objectives as well as strategies for monitoring student and alumni progress. Proposals should include a plan to evaluate the activity's success, both as the activities unfold and at the end of the program. Submission of a sample program-specific draft survey questionnaire, or other technique, plus description of a methodology to use to link outcomes to original project objectives are highly recommended. Applicants may describe any experience conducting results-oriented evaluations. Proposals should indicate a language acquisition assessment plan that includes a baseline (entry) assessment, a mid-term (for semester and year-long programs) assessment, and a final assessment. The cooperating organization will be expected to submit quarterly reports that include student and alumni activities and progress. The final project evaluation should provide qualitative and quantitative data about the project's influence on the participants, including their language gain and continuing study of the target language, as well as their surrounding communities.

7. Cost-effectiveness/Cost-Sharing: The overhead and administrative components of the proposal, including salaries and honoraria, should be kept as low as possible. All other items should be necessary and appropriate. Proposals should maximize cost-sharing through institutional direct funding contributions, as well as other private sector support. Preference will be given to organizations whose proposals demonstrate a quality, cost-effective program.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://exchanges.state.gov/education/grantsdiv/terms.htm#articleI.

VI.3. Reporting Requirements

You must provide ECA with a hard copy original plus two copies of the following reports:

(1.) A final program and financial report no more than 90 days after the expiration of the award;

(2.) A concise, one-page final program report summarizing program outcomes no more than 90 days after the expiration of the award. This one-page report will be transmitted to OMB, and be made available to the public via OMB's USAspending.gov Web site—as part of ECA's Federal Funding Accountability and Transparency Act (FFATA) reporting requirements.

(3.) Quarterly program and financial reports that include information on the progress made on the program plan and program results to date.

Cooperating organizations will be required to provide reports analyzing their evaluation findings to the Bureau in their regular program reports. Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: Daniel Neher or Catharine Cashner, Youth Programs Division, Office of Citizen Exchanges, Bureau of Educational and Cultural Affairs, ECA/PE/C/PY-08-39, U.S. Department of State, SA-44, 301 4th Street, SW., Room 568, Washington, DC 20547, Telephone (202) 453-8173 (Daniel) or (202) 453-8152 (Catharine), Fax (202) 203-7529, E-mail: neherde@state.gov or cashnerce@state.gov.

All correspondence with the Bureau concerning this RFGP should reference the above title and number ECA/PE/C/PY-08-39.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 3, 2008.
C. Miller Crouch,
Principal Deputy Assistant Secretary,Bureau of Educational and Cultural Affairs,Department of State.

[FR Doc. E8-7630 Filed 4-9-08; 8:45 am]

BILLING CODE 4710-05-P